DEPARTMENT OF LABOR

Employment and Training Administration

20 CFR Parts 655 and 656

RIN 1215-AB09

Labor Condition Applications and Requirements for Employers Using Nonimmigrants on H-1B Visas in Specialty Occupations and as Fashion Models; Labor Certification Process for Permanent Employment of Aliens in the United States

AGENCY: Employment and Training Administration, Labor, in concurrence with the Employment Standards Administration, Wage and Hour Division, Department of Labor.

ACTION: Interim final rule; OMB approval of information collection requirements.

SUMMARY: The Employment and Training Administration (ETA) and the Employment Standards Administration (ESA) of the Department of Labor (DOL) are providing notice that on January 18, 2001, the Office of Management and Budget (OMB) approved under the Paperwork Reduction Act (PRA), the information collection requirements contained in Sections 655.700; 655.731; 655.736; 655.737(e)(1); 655.738(e); 655.739(i), and 655.760 of the subject regulation, under OMB No. 1205-0310.

DATES: These information collection requirements became effective on January 19, 2001.

FOR FURTHER INFORMATION CONTACT: Michael Ginley, Director, Office of Enforcement Policy, Wage and Hour Division, Employment Standards Administration, Department of Labor, Room S-3510, 200 Constitution Avenue, NW., Washington, DC 20210. Telephone: (202) 693-0745 (this is not a toll-free number).

Dale M. Ziegler, Chief, Division of Foreign Labor Certifications, U.S. Employment Service, Employment and Training Administration, Department of Labor, Room C-4318, 200 Constitution Avenue, NW., Washington, DC 20210. Telephone: (202) 693-2942 (this is not a toll-free number).

SUPPLEMENTARY INFORMATION: On December 20, 2000 (65 FR 80110), ETA and ESA jointly published an Interim Final Rule (IFR) governing the employment of H-1B nonimmigrants in the United States. The Department at the same time submitted an information collection request, in accordance with the Paperwork Reduction Act (PRA), 44 U.S.C. 3501 et seq. and 5 CFR part 1320, seeking approval of the information collection requirements contained in that rule. These information collection requirements are contained in Sections 655.700; 655.731; 655.736; 655.737(e)(1); 655.738(e); 655.739(i); and 655.760 of that rule.

On January 18, 2001, OMB approved these information collections under the PRA and 5 CFR part 1320. The OMB control number assigned to these information collections is 1205-0310 and approval will expire January 31, 2004.

Signed at Washington, DC this 12th day of February, 2001.
Raymond J. Uhalde,
Deputy Assistant Secretary, Employment and Training Administration.
Thomas M. Markey,
Acting Administrator, Wage and Hour Division, Employment Standards Administration.

[FR Doc. 01-4119 Filed 2-16-01; 8:45 am]

BILLING CODE 4510-30-P